DEPARTMENT OF DEFENSE

GENERAL SERVICES ADMINISTRATION

NATIONAL AERONAUTICS AND SPACE ADMINISTRATION

48 CFR Part 52

Federal Acquisition Regulation; Solicitation Provisions and Contract Clauses

CFR Correction

In Title 48 of the Code of Federal Regulations, Chapter 1 (Parts 52 to 99), revised as of October 1, 2008, on page 123, in section 52.219-9, in the clause, move paragraph (d)(2)(vi), which precedes paragraph (d)(2)(v), to follow paragraph (d)(2)(v); remove the second paragraph (d)(2)(vi); and reinstate paragraph (d)(2)(iv) to read as follows:

52.219-9 Small business subcontracting plan.

* * * * *

(d) * * *

(2) * * *

(iv) Total dollars planned to be subcontracted to service-disabled veteran-owned small business;

* * * * *

[FR Doc. E9-23053 Filed 9-22-09; 8:45 am]

BILLING CODE 1505-01-D